DEPARTMENT OF TRANSPORTATION

Federal Aviation Administration

Notice of Intent To Request Approval From the Office of Management and Budget (OMB) of One New Public Collection of Information

AGENCY: Federal Aviation Administration (FAA), DOT.

ACTION: Notice.

SUMMARY: In compliance with the Paperwork Reduction Act (44 U.S.C. 3501 et seq.), the FAA invites public comment on one public information collection which will be submitted to OMB for review and approval.

DATES: Comments must be received on or before September 6, 2005.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following collection of information in order to evaluate the necessity of the collection, the accuracy of the agency's estimate of the burden, the quality, utility, and clarity of the information to be collected, and possible ways to minimize the burden of the collection in preparation for submission to renew the clearance of the following information collection. 2120-XXXX, International Survey of Human Factors Status in Maintenance Organizations, The Civil Aerospace Medical Institute (CAMI) will collect the information on behalf of the Federal Aviation Administration's (FAA) Aviation Safety (AVS) organization. Organizations that are approved to conduct aircraft maintenance are certified and regulated under 14 CFR part 145, or international equivalent (henceforth referred to as part 145). Part 145 organizations will receive an invitation via e-mail to complete a web-based survey. The information collected will be used to assess what companies have done, are doing or are planning to do regarding the human factors elements of part 145. A partial list of subjects includes training, error management, fatigue management, and additional human factors metrics. Additionally, respondents will be asked to describe their organization's support of their human factors program. CAMI will be responsible for the logistical details associated with collecting and processing the responses. The current estimated annual reporting burden is 1,500 hours.

Issued in Washington, DC, on June 29, 2005.
Judith D. Street,
FAA Information Collection Clearance Officer, ABA-20.

[FR Doc. 05-13267 Filed 7-5-05; 8:45 am]

BILLING CODE 4910-13-M